DEPARTMENT OF JUSTICE

Antitrust Division

Notice Pursuant to the National Cooperative Research and Production Act of 1993—Defense Industrial Based Consortium

Notice is hereby given that, on March 31, 2025, pursuant to section 6(a) of the National Cooperative Research and Production Act of 1993, 15 U.S.C. 4301 et seq. (“the Act”), Defense Industrial Based Consortium (“DIBC”) has filed written notifications simultaneously with the Attorney General and the Federal Trade Commission disclosing changes in its membership. The notifications were filed for the purpose of extending the Act's provisions limiting the recovery of antitrust plaintiffs to actual damages under specified circumstances.

Specifically, Aclara Technologies, Inc., Bethesda, MD; Air Refueling Tanker Transport (ART2) LLC, Saint Louis, MO; Alaska Rare Earth LLC, Klawock, AK; Alcoa of Australia Ltd., Booragoon WA, COMMONWEALTH OF AUSTRALIA; American Basalt Company, Inc., Norris, MT; American Tungsten Corp., Delta, CANADA; Appian Capital Advisory LLP, London, UNITED KINGDOM; Astro Mechanica Corp., San Francisco, CA; Atalco Gramercy LLC, Gramercy, LA; Auris Noble LLC, Akron, OH; Australian Rare Earths LLC, Adelaide, COMMONWEALTH OF AUSTRALIA; Babington Technology, Inc., Rocky Mountain, NC; Balboa A.L.S., Inc., Tampa, FL; Beast Code LLC, Fort Walton Beach, FL; Birdon America, Inc., Denver, CO; Bishop Ascendant, Inc., Caldwell, NJ; Brewer Science, Inc., Rolla, MO; CermeTech LLC, Cleveland, OH; Chariot Defense, Inc., San Bruno, CA; Clearview Optics LLC, Chestnut Hill, MA; Cobalt Blue Holdings Ltd., North Sydney, COMMONWEALTH OF AUSTRALIA; Colonna's Ship Yard, Inc., Norfolk, VA; Connecticut Center for Advanced Technology, Inc., East Hartford, CT; Contact Mining Co., Helena, MT; Curtin University, Bentley, COMMONWEALTH OF AUSTRALIA; Cymer LLC, Decatur, TN; Darkhive, Inc., San Antonio, TX; DECA Defense LLC, Melbourne, FL; Decycle Biosystems, Inc., Seattle, WA; Dev-Lock Systems, Inc. dba AimLock, Littleton, CO; DTCUBED LLC, Sewell, NJ; EDM Resources, Inc., Halifax, CANADA; EKO Solutions LLC, Fishers, IN; Ellwood Texas Forge L.P., Houston, TX; Empire State Mines LLC, Gouverneur, NY; EQ Resources Ltd., South Melbourne, COMMONWEALTH OF AUSTRALIA; Exponent, Inc., Menlo Park, CA; EZ2-3D LLC, Boulder, CO; Fiber Dynamics, Inc., Wichita, KS; Fisica Applied Technologies, Inc., San Leandro, CA; Fresnel, Inc., Leander, TX; G-FORM LLC, Providence, RI; Huntsman International LLC—Huntsman Advanced Materials—HATC Aerospace & Defense, The Woodlands, TX; Hylomatter Labs, Inc., Simpsonville, SC; illumiPure, Inc., Houston, TX; Industry Defense Systems LLC, Lansdale, PA; Integer Technologies LLC, Columbia, SC; Integrated Dynamics, Inc., Chicago, IL; INYOAG LLC, Darwin, CA; KWG RESOURCES, INC., Toronto, CANADA; Latrobe Magnesium Ltd., Hazelwood North Victoria, COMMONWEALTH OF AUSTRALIA; Li-FT Power Ltd., Vancouver, CANADA; Lockheed Martin Corp., Palmdale, CA; Lumimove, Inc. dba WPC Technologies, Oakcreek, WI; Menlo Microsystems, Inc., Irvine, CA; Michigan Wheel Operations LLC, Grand Rapids, MI; Midwest Aerospace Casting LLC, Merrillville, IN; Mobilio Co., San Francisco, CA; Nagambie Resources Ltd., Nagambie Victoria, COMMONWEALTH OF AUSTRALIA; National Safety Apparel LLC, Cleveland, OH; National Security Capital LLC, Owings Mills, MD; Neros, Inc., El Segundo, CA; Northern Minerals Ltd., West Perth, COMMONWEALTH OF AUSTRALIA; Northern Research LLC, Sheridan, WY; Novien Technologies LLC, Rock Hill, SC; On Demand Pharmaceuticals, Inc., Rockville, MD; Oritain USA, Washington, DC; Perellion, Inc., Mukilteo, WA; Polyrheo USA, Inc., Philadelphia, PA; Rare Element Solutions LLC, Fairfax, VA; Raven Space Systems, Inc., Kansas City, MO; Ravyn Technology Corp., Olean, NY; Red Research Group LLC, Southern Pines, NC; RESOLVE, Inc., Washington, DC; Retech Systems LLC, Buffalo, NY; RoviSys Federal Solutions LLC, Holly Springs, NC; Sentinel Chemicals, Inc., Philadelphia, PA; Shadbolt Group Pty Ltd., Pakenham, COMMONWEALTH OF AUSTRALIA; Smiths Interconnect, Inc., Tampa, FL; South Star Battery Metals Corp., Vancouver, CANADA; SP6 Consulting LLC, Clearwater, FL; Sunshine Silver Mining & Refining Co., Kellogg, ID; Sustainment Technologies, Inc., Oklahoma City, OK; TDA Research, Inc., Golden, CO; Teledyne Scientific & Imaging LLC, Thousand Oaks, CA; Textron Systems Corp., Wilmington, MA; Thales USA, Inc., Arlington, VA; The Shepherd Chemical Co., Norwood, OH; Third Coast Packaging, Inc. dba Third Coast Terminals, Pearland, TX; Three-Consulting LLC, St. Louis, MO; Training Center Pros, Inc. dba EDO Gear, Franklin, TN; Trellis Data USA, Inc., Greenville, DE; Universal Solutions International, Inc., Newport News, VA; Verity Integrated Systems, Inc., Huntsville, AL; and VT Milcom, Inc., Virginia Beach, VA have been added as parties to this venture.

Also, Goex Industries LLC, Minde, LA has withdrawn as a party to this venture.

No other changes have been made in either the membership or planned activity of the group research project. Membership in this group research project remains open, and DIBC intends to file additional written notifications disclosing all changes in membership.

On February 21, 2024, DIBC filed its original notification pursuant to section 6(a) of the Act. The Department of Justice published a notice in the Federal Register pursuant to section 6(b) of the Act on June 24, 2024 (89 FR 52508).

The last notification was filed with the Department on January 10, 2025. A notice was published in the Federal Register pursuant to section 6(b) of the Act on February 28, 2025 (90 FR 10944).

Suzanne Morris,
Deputy Director Civil Enforcement Operations, Antitrust Division.

[FR Doc. 2025-06813 Filed 4-18-25; 8:45 am]

BILLING CODE P